ENVIRONMENTAL PROTECTION AGENCY

[FRL-7005-7]

EPA Science Advisory Board; Notification of Public Advisory Committee Meetings

Pursuant to the Federal Advisory Committee Act, Public Law 92-463, notice is hereby given that several committees (Executive Committee (EC), Ecological Processes and Effects Committee (EPEC), Clean Air Scientific Advisory Committee (CASAC), Environmental Health Committee (EHC)/Integrated Human Exposure Committee (IHEC) joint meeting, and Arsenic Rule Benefits Review Panel) of the EPA Science Advisory Board (SAB) will meet on the dates and times noted below. All times noted are Eastern Standard Time. The meetings are open to the public, however, seating is limited and available on a first come basis.

1. Executive Committee—July 17-18, 2001

The US EPA Science Advisory Board's (SAB's) Executive Committee will meet on Tuesday and Wednesday, July 17-18, 2001 from 8:30 am to 5:00 pm on July 17 and 8:30 to 12:00 noon on July 18. The meeting will be held in the USEPA, National Risk Management Research Laboratory (NRMRL), 26 West Martin Luther King Drive, Cincinnati, Ohio 45268. Telephone: (513) 569-7418.

Purpose of the Meeting—At this meeting, the Executive Committee expects to review the following draft reports prepared by its Committees or subcommittees. Please check with SAB Staff (see below) prior to the meeting to determine the final list of review issues.

(a) Executive Committee (EC) of the EPA Science Advisory Board (SAB) “Improving Science-Based Environmental Stakeholder Processes; an SAB Commentary”

(b) Scientific and Technological Achievement Awards Subcommittee (STAA) of the EPA Science Advisory Board (SAB) “Recommendations on the FY2000 Scientific and Technological Achievement Award Nominations” (see 66 Federal Register 19933, dated April 18, 2001 for details).

(c) Scientific and Technological Achievement Awards Subcommittee (STAA) of the EPA Science Advisory Board (SAB) “The Process of the Scientific and Technological Achievement Awards; An SAB Commentary” (see 66 Federal Register 19933, dated April 18, 2001 for details).

The SAB may review other reports if they are available in time. Additional issues on the agenda include: (a) activities of the various SAB committees; (b) consideration of Cumulative Risk issues; (c) addressing concerns raised about activities during the course of preparing reports; (d) the role of social science in SAB activities; and (e) project planning for FY2002.

Charge to the Executive Committee—The focus of the Executive Committee review of draft reports prepared by its Committees or subcommittees is normally limited to the following issues: (a) Does the draft report adequately responded to the questions posed in the Charge? (b) Are the statements and/or responses in the draft report clear? (c) Are there any errors of fact in the draft report?

In accord with the Federal Advisory Committee Act (FACA), the public and the Agency are invited to submit written comments on these three questions. Submissions should be received by July 13, 2001 by Ms. Diana Pozun, EPA Science Advisory Board, Mail Code 1400A, U.S. Environmental Protection Agency, 1200 Pennsylvania Ave., NW., Washington, DC 20460. (Telephone (202) 564-4544, FAX (202) 501-0582; or via e-mail at pozun.diana@epa.gov). Submission by e-mail to Ms. Pozun will maximize the time available for review by the Executive Committee.

The SAB will have a brief period available for applicable public comment. Anyone wishing to make oral comments on the three focus questions above, and that are not duplicative of previously submitted written comments, should contact the Designated Federal Officer for the Executive Committee, Dr. Donald G. Barnes (Tel: 202-564-4533; Fax: 202-501-0323; USEPA Science Advisory Board, Mail Code 1400A, USEPA, 1200 Pennsylvania Ave. NW, Washington, DC 20460; barnes.don@epa.gov) by July 10, 2001. See below for more information on providing comments.

Availability of Materials—The draft meeting agenda and drafts of any reports that will be reviewed at the meeting will be available to the public on the SAB website (http://www.epa.gov/sab) by close-of-business on July 6, 2001.

For Further Information—Any member of the public wishing further information concerning this meeting should contact Dr. Donald G. Barnes, Designated Federal Officer (DFO) for the Executive Committee at US EPA Science Advisory Board (1400A), 1200 Pennsylvania Avenue NW, Washington, DC 20460; phone (202) 564-4533; fax (202) 501-0323; or via e-mail at barnes.don@epa.gov.

2. Ecological Processes and Effects Committee (EPEC)—July 18-20, 2001

The Ecological Processes and Effects Committee of the US EPA Science Advisory Board (SAB), will meet on Wednesday through Friday, July 18-20, 2001 at The Westin Cincinnati, 21 East 5th Street, Cincinnati, OH, telephone 513-621-7700. The meeting will begin at 12:30 p.m. on July 18 and adjourn no later than noon on July 20.

Purpose of the Meeting—(a) Review the draft Agency document, Planning for Ecological Risk Assessment: Developing Management Objectives: The draft document, developed by a technical panel of the EPA Risk Assessment Forum, is designed to help decision-makers work with risk assessors, stakeholders, and other analysts to plan for ecological risk assessments that will effectively inform the decisions they need to make. The document presents the three steps of Planning: Identify Decision Context, Develop Objectives, and Identify Information Needs. It also describes how planning fits into the overall risk-assessment process and provides several case examples showing how the process might be applied in EPA programs.

Charge to the Panel: The Agency has asked the SAB to respond to the following questions:

(1) The primary audience for the guidance document is EPA risk managers, but also should be useful to managers and decisionmakers outside the Agency. Overall, does the SAB think this guidance may be useful and help decisionmakers improve the planning of ecological risk assessments? What additional principles should be included or excluded in the document?

(2) Are the steps in setting management objectives clear and is the overall process logical? Are the key concepts well defined?

(3) Is the depth of discussion and level of technical detail appropriate? If not, how would the SAB change it?

(4) Discuss the flexibility afforded by the guidance and its applicability to different situations (e.g., site-specific, national level, etc. )?

(5) Comment on the effectiveness of the examples, figures, tables, and text boxes.

(b) Review the Southeastern Ecological Framework (SEF): EPA Region 4, working with the University of Florida, has developed the Southeastern Ecological Framework, a Geographic Information System (GIS)-based approach for identifying a network of important regional ecological hubs and “greenways” corridors that connect them throughout the 8-state region. The SEF builds on the approach developed in Florida for identification of a network of greenways (the Florida Ecological Network). The hubs of the framework are typically land areas with high habitat diversity, little forest fragmentation, and greater than 5,000 acres in size. The corridors of the framework connect the hubs and typically follow natural land forms and water features, allowing ecosystem processes to operate at a larger scale. The model depicts a functioning whole system that integrates ecosystem processes across many scales by maintaining connectivity among the parts. The SEF is designed to be a planning tool that can be used by anyone interested in protecting water quality, species habitat, important ecological areas, quality of life and other important natural features by preserving connectivity between those natural areas.

Charge to the Panel: The Agency has asked the SAB to respond to the following questions:

(1) Is the Florida Ecological Network approach consistent with modeling an ecological framework for a region?

(2) Are the data layers used in developing the Southeastern Ecological Framework sufficient to indicate ecological integrity?

(3) Would a similar model or approach be applicable for developing a framework for the U.S.?

(4) Would additional or alternate data layers be needed for a national framework?

(5) What modification might be made to increase the utility of the approach as a decision support tool in meeting EPA's program activities and Government Performance and Results Act (GPRA) goals?

(6) Discuss what linkages between various indicators and EPA programs or control authorities may help to elevate the use of SEF as a decision support tool?

Availability of Review Materials: A copy of the draft document, Planning for Ecological Risk Assessment: Developing Management Objectives is available from Ms. Marilyn Brower, U.S. Environmental Protection Agency, Risk Assessment Forum Staff (8601D), 1200 Pennsylvania Ave, NW., Washington, DC 20460, telephone (202) 564-3363, or e-mail at brower.marilyn@epa.gov. Review materials describing the Southeastern Ecological Framework are available from Dr. Cory Berish, Chief of the Planning and Analysis Branch, U.S. Environmental Protection Agency, Region 4, Atlanta Federal Center, 61 Forsyth Street, SW., Atlanta, GA 30303-8960, telephone (404) 562-8276, or e-mail at berish.cory@epa.gov.

For Further Information—Any member of the public wishing further information concerning this meeting or wishing to submit brief oral comments (10 minutes or less) must contact Ms. Stephanie Sanzone, Designated Federal Officer, EPA Science Advisory Board (1400A), U.S. Environmental Protection Agency, 1200 Pennsylvania Avenue, NW., Washington, DC 20460; telephone (202) 564-4561; FAX (202) 501-0582; or via e-mail at sanzone.stephanie@epa.gov. Requests for oral comments must be in writing (e-mail, fax or mail) and received by Ms. Sanzone no later than noon Eastern Standard Time on July 11, 2001.

3. Environmental Health Committee and the Integrated Human Exposure Committee (EHC/IHEC)—Joint Meeting—July 19-20, 2001

The Environmental Health Committee and the Integrated Human Exposure Committee (EHC/IHEC) of the US EPA Science Advisory Board (SAB), will meet jointly on Thursday and Friday, July 19-20, 2001 at The Westin Cincinnati, 21 East 5th Street, Cincinnati, OH, telephone 513-621-7700. The meeting will begin 9 am Eastern Standard Time on July 19, and adjourn no later than 5 pm on July 20.

Purpose of the Meeting—EPA is currently developing an indoor air toxics strategy to reduce risks from toxic air pollutants indoors, using non-regulatory, voluntary actions. To help focus Agency efforts on the most substantial risks, the Office of Radiation and Indoor Air (ORIA) developed a draft strategy presenting an “order-of-magnitude,” screening-level ranking and selection of key air toxics indoors. The ranking analysis used a methodology similar to that used to select key pollutants for the National Air Toxics Program/Urban Air Toxics Strategy, as presented in the Technical Support Document for that program (for more details, please see http://www.epa.gov/ttn/uatw/urban/urbanpg.html).

Charge to the Committee—The Charge asks the EHC/IHEC to respond to the following four primary questions:

(a) Is the overall methodology suitable for the purposes of the ranking analysis (i.e., development of an “order-of-magnitude,” screening-level ranking and selection of key air toxics indoors)?

(b) Are the criteria used to select the monitoring studies for the analysis appropriate? Are the studies chosen for the ranking analysis suitable, and are there other studies that you believe should be included in this analysis? Were the methods used to select and statistically analyze the data within the studies useful to the analysis?

(c) Is the methodology for selection of the “risk-based concentrations” (based on that presented in the Technical Support Document for the National Air Toxics Program/Urban Air Toxics Strategy) useful in the context of this analysis?

(d) How well are adequacy, limitations, and uncertainties of the analysis described and addressed, including:

(1) Incomplete data on indoor concentrations and hazard/risk indices.

(2) Difficulties in determining the representativeness/accuracy of the “typical” levels indoors.

(3) The use of short-term monitoring data to represent chronic exposure periods.

(4) Issues related to the age of the data.

(5) Variations in the methods used by the various agencies to arrive at the health indices, which are the basis for the “risk-based concentrations?”

Availability of Review Materials: The principal review document is available via request to Ms. Mary Clark, phone (202) 564-9348, or by email to clark.marye@epa.gov.

For Further Information—Any member of the public wishing further information concerning this meeting or wishing to submit brief oral comments (10 minutes or less) must contact Samuel Rondberg, Designated Federal Officer, EPA Science Advisory Board (1400A), U.S. Environmental Protection Agency, 1200 Pennsylvania Avenue, NW., Washington, DC 20460; telephone (301) 812-2560, FAX (410) 286-2689; or via e-mail at samuelr717@aol.com. Requests for oral comments must be in writing (e-mail, fax or mail) and received by Mr. Rondberg no later than noon (EDT) on July 13, 2001.

4. The Arsenic Rule Benefits Review Panel (ARBRP)—July 19-20, 2001

The Arsenic Rule Benefits Review Panel (ARBRP) of the US EPA Science Advisory Board, will meet in the Ronald Reagan Building/International Trade Center Conference Center (Polaris Suite), 1300 Pennsylvania Avenue, NW., Washington, DC 20005. The meeting will begin by 8:30 a.m. and adjourn no later than 5 p.m. Eastern Standard Time on both days. The meeting is open to the public, however, seating is limited and available on a first come basis.

Purpose of the Meeting—The Panel will meet to review the Agency's report Arsenic in Drinking Water Rule Economic Analysis (EPA 815-R-00-026; December 2000). A report will be prepared and delivered to the EPA Administrator as a result of the review.

Background—Studies have linked long-term exposure to arsenic in drinking water to cancer of the bladder, lungs, skin, kidney, nasal passages, liver, and prostate. Non-cancer effects associated with arsenic ingestion include effects to the cardiovascular, pulmonary, immunological, neurological, and endocrine (e.g., diabetes) systems. The current standard of 50 ppb was set by EPA in 1975, based on a Public Health Service standard originally established in 1942. A March 1999 report by the National Academy of Sciences concluded that the current standard does not achieve EPA's goal of protecting public health and should be lowered as soon as possible.

The Safe Drinking Water Act, as amended, 1996, (SDWA) requires EPA to revise the existing 50 parts per billion (ppb) arsenic standard. In response to this mandate, the Agency published a standard of 10 ppb to protect consumers against the effects of long-term, chronic exposure to arsenic in drinking water on January 22, 2001. The rule is significant in that it is the second drinking water regulation for which EPA has used the discretionary authority under section 1412(b)(6) of the SDWA to set the Maximum Contaminant Level (MCL) higher than the technically feasible level, which is 3 ppb for arsenic—based on a determination that the costs would not justify the benefits at this level. The January 22, 2001 arsenic rule is based on the conclusion that a 10 ppb MCL maximizes health risk reduction at a cost justified by the benefits.

The January 22, 2001 rule will apply to all 54,000 community water systems and requires compliance by 2006. A community water system is a system that serves 15 locations or 25 residents year-round, and includes most cities and towns, apartments, and mobile home parks with their own water supplies. EPA estimates that roughly five percent, or 3000, of the community water systems, serving 11 million people, will have to take corrective action to lower the current levels of arsenic in their drinking water. The new standard will also apply to 20,000 “non-community” water systems that serve at least 25 of the same people more than six months of the year, such as schools, churches, nursing homes, and factories. EPA estimates that five percent, or 1,100, of these water systems, serving approximately 2 million people, will need to take measures to comply with the January 22, 2001 rule. Of all of the affected systems, 97 percent are small systems that serve fewer than 10,000 people each.

Following the January 22, 2001 Federal Register promulgation of the arsenic rule, a number of issues were raised to EPA by States, public water systems, and others regarding the adequacy of science and the basis for national economic analyses informing decisions about the rule. Because of the importance of the arsenic rule and the national debate surrounding it related to the science and economic analyses that inform the decision, EPA's Administrator publicly announced on March 20, 2001, that the Agency would take additional steps to reassess the scientific and economic issues associated with this rule, to gather more information, and to seek further public input on each of these important issues.

Key stakeholder concerns on the benefits component of the economic analysis include the following issues: (1) The timing of health benefits accrual (latency); (2) the use of the Value of Statistical Life as a measure of health benefits; (3) the use of alternative methodologies for benefits estimation; (4) how the Agency considered non-quantifiable benefits in its regulatory decision-making process; (5) the analysis of incremental costs and benefits; and (6) the Agency's assumption that health risk reduction benefits will begin to accrue at the same time costs begin to accrue.

Charge to the Committee—The EPA Science Advisory Board (SAB) will convene a panel of nationally recognized technical experts to review the methods for estimating the benefits associated with the final arsenic in drinking water rule. The Panel has been asked to review the Agency's analysis of quantified and unquantified benefits associated with the arsenic drinking water rule (see 66 FR 6976-7066, dated January 22, 2001, www.epa.gov/safewater/ars/arsenic_finalrule.htm), specifically, the Agency asks the SAB to evaluate whether the components, methodology, criteria and estimates reflected in EPA's economic analysis (Arsenic in Drinking Water Rule Economic Analysis; EPA 815-R-00-26, 2001), are reasonable and appropriate in light of: (1) The EPA Science Advisory Board's (SAB) benefits transfer report (EPA-SAB-EEAC-00-013, July 2000, entitled An SAB Report on EPA's White Paper Valuing the Benefits of Fatal Cancer Risk Reductions—available on the SAB Website at www.epa.gov/sab/eeacf013.pdf), (2) EPA's Guidelines for Preparing Economic Analyses (EPA 240-R-00-003; September 2000; www.epa.gov/economics), (3) relevant requirements of the Safe Drinking Water Act (SDWA—www.epa.gov/safewater/sdwa/sdwa.htm), (4) the National Drinking Water Advisory Council recommendations to EPA on benefits (Benefits Working Group Report to the National Drinking Water Advisory Council; unpublished, October 29, 1998), and (5) recent literature. As part of a general review, consideration should be given to the following issues:

(a) How should total benefits and costs and incremental benefits and costs be addressed in analyzing regulatory alternatives to ensure appropriate consideration by decision makers and the public?

(b) How should latency be addressed in the benefits estimates when existing literature does not provide specific quantitative estimates of latency periods associated with exposure to arsenic in drinking water?

(c) Should reduction/elimination of exposure be evaluated as a separate benefits category, in addition to or in conjunction with mortality and morbidity reduction?

(d) How should health endpoints (other than bladder and lung cancer) be addressed in the analysis, when [existing] literature does not provide specific quantification, to ensure appropriate consideration by decision makers and the public?

(e) How should uncertainties be addressed in the analysis to ensure appropriate consideration by decision makers and the public?

In order to ensure that the SAB's recommendations are fully considered in decision making, the Agency has asked for a report to be made available to the Administrator in August 2001 to coincide with the findings and recommendations from independent reviews of the health effects by the National Academy of Sciences and costs by the National Drinking Water Advisory Council.

For Further Information—Any member of the public wishing further information concerning this meeting should contact Mr. Thomas O. Miller, Designated Federal Officer, EPA Science Advisory Board, U.S. Environmental Protection Agency (1400A), 1200 Pennsylvania Avenue, NW., Washington, DC 20460, telephone (202) 564-4558; FAX (202) 501-0582; or via e-mail at miller.tom@epa.gov. For a copy of the draft meeting agenda, please contact (primary) Ms. Wanda Fields, Management Assistant at (202) 564-4539, or by FAX at (202) 501-0582; or (alternate) Ms. Rhonda Fortson, Management Assistant at (202) 564-4563 or by FAX at (202) 501-0582 or via e-mail at fortson.rhonda@epa.gov.

Materials that are the subject of this review are available on the EPA Website as noted in the section on “Charge to the Committee” above or from Ms. Rebecca K Allen, US EPA, Office of Water (OW)(MS 4607), 1200 Pennsylvania Avenue, NW, Washington, DC 20460, Phone: (202) 260-6667 or via e-mail at allen.rebeccak@epa.gov.

Public Oral or Written Comments—Members of the public who wish to make a brief oral presentation (5 minutes or less per person or organization, depending on the number of requests) to the Panel must contact Mr. Miller in writing (by letter or by fax—see contact information above) no later than 12 noon Eastern Standard Time, Monday, July 16, 2001 in order to be included on the Agenda. The request should identify the name of the individual who will make the presentation, the organization (if any) they will represent, any requirements for audio visual equipment (e.g., overhead projector, 35mm projector, chalkboard, etc), and at least 35 copies of an outline of the issues to be addressed or the presentation itself. See below for more information on providing written or oral comments.

5. Clean Air Scientific Advisory Committee (CASAC)—July 23-24, 2001

The Particulate Matter Review Panel of the Clean Air Scientific Advisory Committee (CASAC) of the EPA Science Advisory Board (SAB) will meet on Monday and Tuesday, July 23-24, 2001 in the Main Auditorium, US Environmental Protection Agency Environmental Research Center, Route 54 and Alexander Drive, Research Triangle Park, NC. The meeting will begin at 8:30 am and end no later than 5:30 pm on each day.

Purpose of the Meeting: (a) The CASAC PM Review Panel will conduct a peer review of the EPA Air Quality Criteria for Particulate Matter (Second External Review Draft) prepared by EPA's National Center for Environmental Assessment (NCEA); and (b) The CASAC PM Review Panel will also conduct a Consultation with the EPA's Office of Air Quality Planning and Standards (OAQPS) on the preliminary draft of OAQPS's Staff Paper for particulate matter, Review of the National Ambient Air Quality Standards for Particulate Matter: Policy Assessment of Scientific and Technical Information, and the draft Particulate Matter NAAQS Risk Analysis Scoping Plan.

Availability of Review Materials: (a) EPA Air Quality Criteria for Particulate Matter (Second External Review Draft)—This document assesses the latest available scientific information on the effects of airborne particulate matter (PM) on human health and welfare. To obtain a copy of the EPA Air Quality Criteria for Particulate Matter (Second External Review Draft), or to obtain further information concerning this document, please refer to 66 FR 18929, April 12, 2001. (b) Review of the National Ambient Air Quality Standards for Particulate Matter: Policy Assessment of Scientific and Technical Information and the Draft Particulate Matter NAAQS Risk Analysis Scoping Plan—These documents have both been released for comment. To obtain copies or further information, please refer to 66 FR 32621, dated June 15, 2001.

For Further Information—Members of the public desiring additional information about the meeting should contact Mr. Robert Flaak, Designated Federal Officer, Clean Air Scientific Advisory Committee, US EPA Science Advisory Board (1400A), U.S. EPA, 1200 Pennsylvania Avenue, NW., Washington, DC 20460 (FedEx address: US EPA SAB, Suite 6450, 1200 Pennsylvania Ave. NW, Washington, DC 20004); telephone/voice mail at (202) 564-4546; fax at (202) 501-0582; or via e-mail at flaak.robert@epa.gov. The draft agenda will be available approximately two weeks prior to the meetings on the SAB website (http://www.epa.gov/sab) or from Ms. Rhonda Fortson, Management Assistant, at (202) 564-4563; FAX: (202) 501-0582; or e-mail at: fortson.rhonda@epa.gov.

Public Oral or Written Comments—Members of the public who wish to make a brief oral presentation at the meeting must contact Mr. Flaak in writing (by letter, fax, or e-mail—see previously stated information) no later than 12 noon Eastern Standard Time, Friday, July 13, 2001 in order to be included on the Agenda. For this meeting, we have allocated a total of 2.5 hours for public comments to be divided equally among those requesting speaking time, with a maximum of ten minutes per speaker or organization. See below for more information on providing written or oral comments. Written comments of any length will be accepted up until the date of the meeting.

Providing Oral or Written Comments at SAB Meetings

It is the policy of the EPA Science Advisory Board to accept written public comments of any length, and to accommodate oral public comments whenever possible (unless otherwise stated). The EPA Science Advisory Board expects that public statements presented at its meetings will not be repetitive of previously submitted oral or written statements.

Oral Comments: In general, each individual or group requesting an oral presentation at a face-to-face meeting will be limited to a total time of ten minutes (unless otherwise stated above). For teleconference meetings, opportunities for oral comment will usually be limited to no more than three minutes per speaker and no more than fifteen minutes total. Deadlines for getting on the public speaker list for a meeting are given above. Speakers should bring at least 35 copies of their comments and presentation slides for distribution to the reviewers and public at the meeting.

Written Comments: Although the SAB accepts written comments until the date of the meeting (unless otherwise stated), written comments should be received in the SAB Staff Office at least one week prior to the meeting date so that the comments may be made available to the committee for their consideration. Comments should be supplied to the appropriate DFO at the address/contact information noted above in the following formats: One hard copy with original signature, and one electronic copy via e-mail (acceptable file format: WordPerfect, Word, or Rich Text files (in IBM-PC/Windows 95/98 format). Those providing written comments and who attend the meeting are also asked to bring 25 copies of their comments for public distribution.

General Information—Additional information concerning the EPA Science Advisory Board, its structure, function, and composition, may be found on the SAB Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact the appropriate DFO at least five business days prior to the meeting so that appropriate arrangements can be made.

Dated: June 27, 2001.
Donald G. Barnes,
Staff Director, EPA Science Advisory Board.

[FR Doc. 01-16569 Filed 6-29-01; 8:45 am]

BILLING CODE 6560-50-P